DEPARTMENT OF VETERANS AFFAIRS

Advisory Committee: National Academic Affiliations Council; Notice of Meeting

The Department of Veterans Affairs (VA) gives notice under the Federal Advisory Committee Act, 5 U.S.C. App. 2 that a meeting of the VA National Academic Affiliations Council (NAAC) will be held July 12, 2017-July 13, 2017 in Washington DC. The July 12, 2017 session will be held in the Sonny Montgomery Conference Center, Room 230, 810 Vermont Avenue NW., Washington, DC 20420. This session will begin at 9:00 a.m. and end at 4:45 p.m. The July 13, 2017 session will held in Room HVC-201AB of the U.S. Capitol Visitors Center, First Street NE., Washington, DC 20515. This session will begin at 9:00 a.m. and adjourn at 2:00 p.m. The meetings are open to the public.

The purpose of the Council is to advise the Secretary on matters affecting partnerships between VA and its academic affiliates.

On July 12, 2017, the Council will receive two briefings on the Blue Ribbon Panel on VA-Medical School Affiliations and a historical review of previous NAAC recommendations. These presentations will be followed by a visit from the Interim Deputy Secretary of Veterans Affairs who will share his thoughts on VA transformation and entertain questions from the Council members. During the afternoon, the Council will explore potential improvements to VA's relationship with academic affiliates and specifically discuss the responses received from the Secretary of Veterans Affairs' March 24, 2017 letter to VA medical school affiliates. The July 12, 2017 session will conclude with presentations from the VA Office of Research and Development and the National Research Advisory Council. On July 13, 2017, the Council will receive presentations on the 2017 VA Diversity and Inclusion Summit and the Veterans Access, Choice and Accountability Act's Graduate Medical Education expansion effort. Rep. Phil Roe, M.D. (R-TN), Chairman, House Committee on Veterans Affairs, and Rep. Sanford Bishop (D-GA), Ranking Member of the House Appropriations Committee, Military Construction and Veterans Affairs Subcommittee are invited to participate in these portions of the meeting. Other topics scheduled for the July 13, 2017 session include an update on the status of VA contracting policy development relevant to academic affiliates and an exploration of future initiatives for the NAAC facilitated by the Council Chair. The Council will receive public comments from 4:30 p.m. to 4:45 p.m. on July 12, 2017 and again from 1:45 p.m. to 2:00 p.m. on July 13, 2017.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, by email to, Steve.Trynosky@va.gov, or via mail to Stephen K. Trynosky JD, MPH, MMAS, Designated Federal Officer, Office of Academic Affiliations (10A2D), 810 Vermont Avenue NW., Washington, DC 20420. Any member of the public wishing to attend or seeking additional information should contact Mr. Trynosky via email or by phone at (202) 461-6723. Because the meeting will be held in Government buildings, anyone attending must be prepared to submit to security screening and present a valid photo I.D. Please allow at least 15 minutes prior to the meeting for this process.

Dated: June 12, 2017.
Jelessa Burney,
Federal Advisory Committee Management Officer.

[FR Doc. 2017-12418 Filed 6-14-17; 8:45 am]

BILLING CODE 8320-01-P